COMMITTEE FOR PURCHASE FROM PEOPLE WHO ARE BLIND OR SEVERELY DISABLED

Procurement List: Proposed Additions

AGENCY: Committee for Purchase From People Who Are Blind or Severely Disabled.

ACTION: Proposed Additions to Procurement List.

SUMMARY: The Committee is proposing to add to the Procurement List products and services to be provided by the nonprofit agency employing persons who are blind or have other severe disabilities.

Comments Must Be Received On or Before: 1/11/2010.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed action.

Additions

If the Committee approves the proposed additions, the entities of the Federal Government identified in this notice for the products and services will be required to procure the products and services listed below from the nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the products and services to the Government.

2. If approved, the action will result in authorizing small entities to provide the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List to be performed by the nonprofit agencies listed:

Products

8415-00-NSH-1746: Armored Survival Vest Ensemble (Small)

8465-00-NSH-2008: Set of Pockets (5 General, 1 Radio, 1 HABD)

8465-00-NSH-2007: HABD/SEA Pocket, Armored Survival Vest

8465-00-NSH-2006: Radio Pocket, Armored Survival Vest

8465-00-NSH-2005: General Pocket, Armored Survival Vest

8415-00-NSH-1783: Armored Survival Vest (Extra-Large)

8415-00-NSH-1782: Armored Survival Vest (Large)

8415-00-NSH-1781: Armored Survival Vest (Medium)

8415-00-NSH-1780: Armored Survival Vest (Small)

8415-00-NSH-1749: Armored Survival Vest Ensemble (Extra-Large)

8415-00-NSH-1748: Armored Survival Vest Ensemble (Large)

8415-00-NSH-1747: Armored Survival Vest (Medium)

NPA: Peckham Vocational Industries, Inc. Lansing, MI.

Contracting Activity: DEPT OF THE NAVY, Naval Air Systems CMD Headquarters, Patuxent River, MD.

Coverage: C-List for total of the requirements of DEPT OF THE NAVY, Naval Air Systems CMD Headquarters, Patuxent River, MD.

Services

Service Type/Location: Contract Management Support Service, DOD-wide.

NPA: National Industries for the Blind, Alexandria, VA.

Contracting Activity: Dept of the Army, Mission and Installation Contracting Command (MICC), Ft Knox, KY.

Service Type/Location: Custodial & Grounds Services, U.S. Army Headquarters 6th Recruiting Brigade, Las Vegas, NV, 4539 N. 5th Street, North Las Vegas, NV.

NPA: Opportunity Village Association for Retarded Citizens, Las Vegas, NV.

Contracting Activity: Dept of the Air Force, FA4861 99 CONS LGC, Nellis AFB, NV.

Service Type/Location: Custodial/Building Maintenance/Groundskeeping, San Angelo Air and Marine Unit, San Angelo, TX, 8092 Hangar Road, San Angelo, TX.

NPA: Mavagi Enterprises, Inc., San Antonio, TX.

Contracting Activity: Bureau of Customs and Border Protection, Department of Homeland Security, Office of Procurement, Washington, DC.

Service Type/Locations: Consolidated Facilities Maintenance (CFM)

Naval Medical Center Portsmouth, 620 John Paul Jones Circle Portsmouth, VA

Boone Clinic, Naval Amphibious Base Little Creek, 1035 Nider Blvd., Norfolk, VA

Yorktown Clinic, Naval Weapons Station, Yorktown, VA

Dam Neck Clinic, Fleet Combat Training Center Atlantic, 1885 Terrier Ave., Virginia Beach, VA

Oceana Clinic, Naval Air Station Oceana, 1550 Tomcat Blvd., Suite 150, Virginia Beach, VA

Sewells Point Clinic, Naval Station Norfolk, Norfolk, VA

NNSY Clinic, Norfolk Naval Shipyard, Portsmouth, VA.

NPA: Professional Contract Services, Inc., Austin, TX.

Contracting Activity: Dept of the Navy, Naval FAC Engineering CMD MID LANT, Norfolk, VA.

Service Type/Locations: Warehouse—Receiving & Distribution Services

Roybal Campus, 1600 Clifton Road, Atlanta, GA 30329

Century Center, Century Blvd., Atlanta, GA 30345

Chamblee, 4770 Buford Highway, Chamblee, GA 30341

Corporate Square, Corporate Square Boulevard, Atlanta, GA 30329

Executive Park, Executive Park Drive, Atlanta, GA 30329

Koger Center, Koger Office Park, Chamblee, GA 30341

Lawrenceville, 602 Webb Ginn House Road, Lawrenceville, GA 30245

Peachtree Distribution Center, 3719 N. Peachtree Road, Chamblee, GA 30341

Metro Logistics, 5630 Gwaltney Drive, Atlanta, GA 30336

Metro Logistics, 675 Hartman Road, SW., Suite 500, Austell, GA 30168.

NPA: Goodwill Industries of North Georgia, Atlanta, GA.

Contracting Activity: Centers for Disease Control & Prevention (CDC), Procurement and Grants Office (PGO), Atlanta, GA.

Patricia Briscoe,
Deputy Director, Business Operations.

[FR Doc. E9-30121 Filed 12-17-09; 8:45 am]

BILLING CODE 6353-01-P